NATIONAL AERONAUTICS AND SPACE ADMINISTRATION

[Notice: (13-129)]

International Space Station National Laboratory Advisory Committee; Charter Renewal

AGENCY: National Aeronautics and Space Administration (NASA).

ACTION: Notice of renewal of the charter of the International Space Station National Laboratory Advisory Committee.

SUMMARY: Pursuant to sections 14(b)(1) and 9(c) of the Federal Advisory Committee Act (Pub. L. 92-463), and after consultation with the Committee Management Secretariat, General Services Administration, the NASA Administrator has determined that renewal of the charter of the International Space Station National Laboratory Advisory Committee is in the public interest in connection with the performance of duties imposed on NASA by law. The renewed charter is for a two-year period ending October 18, 2015. It is identical to the previous charter in all respects.

FOR FURTHER INFORMATION CONTACT: Ms. Marybeth A. Edeen, Executive Director, International Space Station National Laboratory Advisory Committee, NASA Johnson Space Center, Houston, TX; phone: 281-483-9122; email: marybeth.a.edeen@nasa.gov.

Patricia D. Rausch,
Advisory Committee Management Officer, National Aeronautics and Space Administration.

[FR Doc. 2013-26714 Filed 11-6-13; 8:45 am]

BILLING CODE 7510-13-P